NUCLEAR REGULATORY COMMISSION

[NRC-2016-0168]

Request To Amend a License To Import Radioactive Waste

AGENCY: Nuclear Regulatory Commission.

ACTION: Update of import license application and extension of comment period; correction.

SUMMARY: The U.S. Nuclear Regulatory Commission (NRC) is correcting a notice that was published in the Federal Register on August 8, 2016, regarding request to amend a license to import radioactive waste. This action is necessary in order to adequately describe the type of radioactive material being requested for import.

DATES: The correction is effective March 6, 2017.

ADDRESSES: Please refer to Docket ID NRC-2016-0168 when contacting the NRC about the availability of information regarding this document. You may obtain publicly-available information related to this document using any of the following methods:

• Federal Rulemaking Web site: Go to http://www.regulations.gov and search for Docket ID NRC-2016-0168. Address questions about NRC dockets to Carol Gallagher; telephone: 301-415-3463; email: Carol.Gallagher@nrc.gov. For technical questions, contact the individual(s) listed in the FOR FURTHER INFORMATION CONTACT section of this document.

• NRC's Agencywide Documents Access and Management System (ADAMS): You may obtain publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov.

• NRC's PDR: You may examine and purchase copies of public documents at the NRC's PDR, Room O1-F21, One White Flint North, 11555 Rockville Pike, Rockville, Maryland 20852.

FOR FURTHER INFORMATION CONTACT: Andrea Jones, Office of International Programs, U.S. Nuclear Regulatory Commission, Washington, DC 20555-0001; telephone: 301-287-9072, email: Andrea.Jones2@nrc.gov.

SUPPLEMENTARY INFORMATION: In the Federal Register on August 8, 2016, (81 FR 52484), within the NRC Import License Application—Description of Material chart, correct “No change in material (Class A radioactive waste)” to read “Class A, B, or C radioactive waste.”

Dated at Rockville, Maryland, this 27th day of February 2017.
For the Nuclear Regulatory Commission.
David L. Skeen,
Deputy Director, Office of International Programs.

[FR Doc. 2017-04290 Filed 3-3-17; 8:45 am]

BILLING CODE 7590-01-P